DEPARTMENT OF AGRICULTURE

Office of the Secretary

Privacy Act of 1974; Notice of Proposed New Routine Use

AGENCY: United States Department of Agriculture (USDA).

ACTION: Notice to revise existing Privacy Act System of Records.

SUMMARY: In accordance with the requirements of the Privacy Act of 1974, as amended, 5 U.S.C. 552a, USDA gives notice that it is revising the current routine uses by deleting two routine uses; and by adding a new routine use to the Privacy Act System of Records OCFO-3, entitled “Administrative Billings and Collections System”.

DATES: Comments must be received by the contact person listed below on or before December 7, 2009. This notice will be adopted without further publication in the Federal Register on January 5, 2010.

FOR FURTHER INFORMATION CONTACT: Darlene Irving, Privacy Act Coordinator, National Finance Center, Office of the Chief Financial Officer, USDA, P.O. Box 60000, New Orleans, Louisiana 70160-001, (504) 426-0168.

SUPPLEMENTARY INFORMATION: Pursuant to the Privacy Act, 5 U.S.C. 552a, USDA is revising the Administrative Billings and Collections System to amend its current list of routine uses (62 FR 47622) to delete obsolete routine uses number six and number eight, renumber the remaining routine uses, and to add a new routine use nine to its system of records allowing for the disclosure of information in the course of responding to a breach of Federal data. The Office of Management and Budget (OMB) requires all Federal agencies to be able to quickly and efficiently respond in the event of a breach of personally identifiable information and has directed agencies to publish a routine use that will allow disclosure of Privacy Act information to persons and entities in a position to assist with notifying affected individuals or playing a role in preventing, minimizing, or remedying any harm from a breach.

A “Report on New System,” required by 5 U.S.C. 552a (r) as implemented by OMB Circular A-130, was sent to the Chairman, Committee on Homeland Security and Governmental Affairs, United States Senate; the Chairman, Committee on Oversight and Government Reform, United States House of Representatives; and the Administrator, Office of Information and Regulatory Affairs, OMB.

Dated: October 19, 2009.
Thomas J. Vilsack,
Secretary.

USDA/OCFO-3

SYSTEM NAME:

Administrative Billings and Collections System, USDA/OCFO.

SECURITY CLASSIFICATION:

None.

SYSTEM LOCATION:

National Finance Center (NFC), Office of the Chief Financial Officer (OCFO), United States Department of Agriculture (USDA), New Orleans, Louisiana 70160.

CATEGORIES OF INDIVIDUALS COVERED BY THE SYSTEM:

Individuals who are indebted to the Federal Government and whose debts are serviced by NFC.

CATEGORIES OF RECORDS IN THE SYSTEM:

This automated system consists of a master file containing the debtor's name, address, Social Security number or assigned vendor number, amount of indebtedness, amount of current collection, and amount of total billing. Eventually, these records are transferred to a history file for inquiry use. Information regarding debts subject to the Treasury Offset Program (TOP) and Cross Servicing Program (CS) are kept separate from the administrative billings and collections database in an automated and manually updated claims database.

AUTHORITY FOR MAINTENANCE OF THE SYSTEM:

31 U.S.C. 3711 through 3719.

AGENCY OFFICIAL RESPONSIBLE FOR SYSTEM OF RECORD:

John White, Designated Accreditation Authority, NFC, OCFO, USDA, P.O. Box 60000, New Orleans, Louisiana 70160.

PURPOSE(S):

The records in this system are used to issue bills and collect funds due to the Government in compliance with the Debt Collection Act of 1982, Public Law 97-365, 96 Stat. 1749, as amended by Public Law 98-167, 97 Stat. 1104, and the Debt Collection Improvements Act of 1996, Public Law 104-134, 110 Stat. 1321.

ROUTINE USES OF RECORDS MAINTAINED IN THE SYSTEM, INCLUDING CATEGORIES OF USERS AND THE PURPOSES OF SUCH USES:

(1) Referral to the appropriate agency, whether Federal, State, local, or foreign, charged with the responsibility of investigating or prosecuting a violation of law, or of enforcing or implementing a statute, rule, regulation, or order issued pursuant thereto, of any record within this system when information available indicates a violation or potential violation of law, whether civil, criminal, or regulatory in nature, and whether arising by general statute or particular program statute, or by rule, regulation, or order issued pursuant thereto.

(2) Referral to the Department of Justice when (a) The agency, or any component, thereof; or (b) any employee of the agency in his or her official capacity; or (c) any employee of the agency in his or her individual capacity where the Department of Justice has agreed to represent the employee; or (d) the United States, where the agency determines that litigation is likely to affect the agency or any of its components, is a party to the litigation or has an interest in such litigation, and the use of such records by the Department of Justice is deemed by the agency to be relevant and necessary to the litigation, providing, however, that in each case, the agency determines that disclosure of the records to the Department of Justice is a use of the information that is compatible with the purpose for which the records were collected.

(3) Disclosure in a proceeding before a court or adjudicative body before which the agency is authorized to appear, when (a) The agency, or any component thereof; or (b) any employee of the agency in his or her official capacity; or (c) any employee of the agency in his or her individual capacity where the Department of Justice has agreed to represent the employee; or (d) the United States, where the agency determines that litigation is likely to affect the agency or any of its components, is a party to the litigation or has an interest in such litigation, and the use of such records by the Department of Justice is deemed by the agency to be relevant and necessary to the litigation, providing, however, that in each case, the agency determines that disclosure of the records to the Department of Justice is a use of the information that is compatible with the purpose for which the records were collected.

(4) Disclosure may be made to a Congressional office from the record of an individual in response to an inquiry from the Congressional office made on behalf of the individual.

(5) Information will be forwarded to another Federal agency when a Federal employee accepts employment with another Federal agency or when NFC no longer provides payroll or debt collection services to the employee's employing Federal agency.

(6) Information contained in this system of records may be disclosed to a debt collection agency when USDA determines such referral is appropriate for collecting the debtor's account as provided for in U.S. Government contracts with collection agencies executed pursuant to 31 U.S.C. 3718.

(7) Information contained in this system of records may be disclosed to a consumer reporting agency in accordance with 31 U.S.C. 3711(f).

(8) Information contained in this system of records, related to non-tax debts or claims that are delinquent for 180 days, will be sent to the Secretary of the Treasury or to other Federal agencies designated by the Secretary of the Treasury for the purpose of offsetting Federal payments to collect delinquent debts, owed to the Federal Government. Records will be matched by taxpayer identification number (TIN) and name. For an individual, the TIN is the Social Security number. For a business, the TIN is the Employer Identification Number. The release of this information is in accordance with 31 U.S.C. 3716, 31 U.S.C. 3720A, and 4 CFR part 102.

(9) Disclosure of information to appropriate agencies, entities, and persons when (1) NFC suspects or has confirmed that the security or confidentiality of information in the system of records has been compromised; (2) USDA has determined that as a result of the suspected or confirmed compromise there is a risk of harm to economic or property interests, identity theft or fraud, or harm to the security or integrity of this system or other systems or programs (whether maintained by USDA or another agency or entity) that rely upon the compromised information; and (3) the disclosure made to such agencies, entities, and persons is reasonably necessary to assist in connection with USDA's efforts to respond to the suspected or confirmed compromise and prevent, minimize, or remedy such harm.

POLICIES AND PRACTICES REGARDING STORAGE, RETRIEVABILITY, ACCESS CONTROLS, RETENTION, AND DISPOSAL OF RECORDS IN THE SYSTEM:

STORAGE:

Records are maintained on magnetic tape files, disk files, and in folders at NFC.

RETRIEVABILITY:

Records in the administrative billings and collections database are retrieved by Social Security number and by name of individual or equivalent identifying number. Records in the claims database are retrieved by the claim number, by Social Security number and name of individual, or by equivalent identifying number.

SAFEGUARDS:

Magnetic tape files and disk files are kept in a locked computer room and tape library which can be accessed by authorized personnel only. File folders are maintained in secure areas with access by authorized personnel only. Disk files are password protected to limit access to authorized personnel only. Online access by NFC and other agency personnel is password protected.

RETENTION AND DISPOSAL OF RECORDS:

Master history magnetic tapes are retained in accordance with a tape library management schedule. Manual records are transferred to the Federal Records Center for storage and disposition in accordance with General Services Administration regulations.

SYSTEM MANAGER(S) AND ADDRESS:

Director, NFC, OCFO, USDA, P. O. Box 60000, New Orleans, Louisiana 70160.

NOTIFICATION PROCEDURE:

Any individual may request information regarding this system of records or information as to whether the system contains records pertaining to him/her from the System Manager. A request for information pertaining to an individual should be in writing and should contain: Name, address, Social Security number, and particulars involved (i.e., dates of claims, copies of correspondence, etc.).

RECORD ACCESS PROCEDURES:

Any individual may obtain information as to the procedures for gaining access to a record in the system which pertains to him/her by submitting a written request to the System Manager.

CONTESTING RECORD PROCEDURES:

Any individual may obtain information as to the procedures for contesting a record in the system which pertains to him/her by submitting a written request to the System Manager.

RECORD SOURCE CATEGORIES:

Information in this system comes primarily from USDA employees, former USDA employees, non-USDA employees, agency claimants, and USDA or other investigative personnel.

EXEMPTIONS CLAIMED FOR THE SYSTEM:

None.

[FR Doc. E9-26794 Filed 11-5-09; 8:45 am]

BILLING CODE 3410-KS-P